NATIONAL AERONAUTICS AND SPACE ADMINISTRATION

[Notice (06-065)]

NASA International Space Station Independent Safety Task Force Meeting

AGENCY: National Aeronautics and Space Administration (NASA).

ACTION: Notice of meeting.

SUMMARY: In accordance with the Federal Advisory Committee Act, the National Aeronautics and Space Administration announces a forthcoming meeting of the International Space Station Independent Safety Task Force (IISTF).

DATES: Thursday, October 5, 2006, 8 a.m. to 5 p.m.; and Friday, October 6, 8 a.m. to 5 p.m. Central Daylight Time.

ADDRESSES: NASA Lyndon B. Johnson Space Center, 2101 NASA Parkway, Bldg. 1, Room 966, Houston, TX 77058.

FOR FURTHER INFORMATION CONTACT: Ms. Melissa Y. Gard, IISTF Executive Director, National Aeronautics and Space Administration, Lyndon B. Johnson Space Center, Houston, TX 77058, telephone (281) 244-7980, e-mail melissa.y.gard@nasa.gov.

SUPPLEMENTARY INFORMATION: This meeting will be open to the public up to the seating capacity of the room [~20 public seats]. Seating will be on a first-come basis.

—This will be a fact-finding and report writing session.

Attendees will be requested to sign a register and to comply with NASA security requirements, including the presentation of a valid picture ID, before receiving an access badge. Foreign nationals attending this meeting will be required to provide the following information: full name; gender; date/place of birth; citizenship; visa/green card information (number, type, expiration date); passport information (number, country, expiration date); employer/affiliation information (name of institution, address, country, phone); title/position of attendee. To expedite admittance, attendees should provide identifying information in advance by contacting Ms. Jana Schultz via e-mail at jana.t.schultz@nasa.gov or by telephone at (281) 244-7913 by September 25, 2006. If e-mailing, please include “IISTF” in the subject line.

Members of the public may make five minute verbal presentations to the Task Force on the subject of International Space Station safety. All those wishing to make such a statement in front of the Task Force are requested to contact Ms. Jana Schultz via e-mail at jana.t.schultz@nasa.gov or by telephone at (281) 244-7913 by September 25, 2006. If e-mailing, please include “IISTF” in the subject line. If public requests to speak are received, they will be heard during the first 30 minutes on October 5, 2006, meeting on a first-come basis. Any member of the public is permitted to file a written statement with the Task Force at the time of the meeting. Verbal presentations and written comments should be limited to the subject of International Space Station safety.

P. Diane Rausch,
Advisory Committee Management Officer, National Aeronautics and Space Administration.

[FR Doc. E6-15284 Filed 9-13-06; 8:45 am]

BILLING CODE 7510-13-P